DEPARTMENT OF THE INTERIOR

Fish and Wildlife Service

[Docket No. FWS-HQ-IA-2022-0123; FXIA16710900000-223-FF09A30000]

Marine Mammal Protection Act and Wild Bird Conservation Act; Receipt of Permit Applications

AGENCY: Fish and Wildlife Service, Interior.

ACTION: Notice of receipt of permit applications; request for comments.

SUMMARY: We, the U.S. Fish and Wildlife Service (Service), invite the public to comment on species for which the Service has jurisdiction under the Marine Mammal Protection Act (MMPA) and foreign bird species covered under the Wild Bird Conservation Act (WBCA). With some exceptions, the MMPA and WBCA prohibit activities with listed species unless Federal authorization is issued that allows such activities. These Acts also require that we invite public comment before issuing permits for any activity they otherwise prohibit with respect to any species.

DATES: We must receive comments by December 12, 2022.

ADDRESSES: Obtaining Documents: The application, application supporting materials, and any comments and other materials that we receive will be available for public inspection at https://www.regulations.gov in Docket No. FWS-HQ-IA-2022-0123.

Submitting Comments: When submitting comments, please specify the name of the applicant and the permit number at the beginning of your comment. You may submit comments by one of the following methods:

• Internet: https://www.regulations.gov. Search for and submit comments on Docket No. FWS-HQ-IA-2022-0123.

• U.S. Mail: Public Comments Processing, Attn: Docket No. FWS-HQ-IA-2022-0123; U.S. Fish and Wildlife Service Headquarters, MS: PRB/3W; 5275 Leesburg Pike; Falls Church, VA 22041-3803.

For more information, see Public Comment Procedures under SUPPLEMENTARY INFORMATION.

FOR FURTHER INFORMATION CONTACT: Brenda Tapia, by phone at 703-358-2185 or via email at DMAFR@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

I. Public Comment Procedures

A. How do I comment on submitted applications?

We invite the public and local, State, Tribal, and Federal agencies to comment on these applications. Before issuing any of the requested permits, we will take into consideration any information that we receive during the public comment period.

You may submit your comments and materials by one of the methods in ADDRESSES. We will not consider comments sent by email, or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments at https://www.regulations.gov unless our allowing so would violate the Privacy Act (5 U.S.C. 552a) or Freedom of Information Act (5 U.S.C. 552).

C. Who will see my comments?

If you submit a comment at https://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 104(c) of the Marine Mammal Protection Act of 1972, as amended (MMPA; 16 U.S.C. 1361 et seq.), and section 112(4) of the Wild Bird Conservation Act of 1992 (WBCA; 16 U.S.C. 4901-4916), we invite public comments on permit applications before final action is taken. With some exceptions, these Acts prohibit certain activities with listed species unless Federal authorization is issued that allows such activities. Service regulations regarding permits for any activity otherwise prohibited by the MMPA with respect to any marine mammals are available in title 50 of the Code of Federal Regulations in part 18. Service regulations regarding permits for any activity otherwise prohibited by the WBCA with respect to any wild birds are available in title 50 of the Code of Federal Regulations in part 15.

Concurrent with publishing this notice in the Federal Register, we are forwarding copies of the marine mammal applications to the Marine Mammal Commission and the Committee of Scientific Advisors for their review.

III. Permit Applications

We invite comments on the following applications.

A. Marine Mammal Protection Act

Applicant: Offspring Films Ltd., Bristol, UK; Permit No. PER0027521

The applicant requests a permit to photograph (video and still photography) West Indian manatee (Trichechus manatus) in Florida, for the purpose of commercial photography. This notification covers activities to be conducted by the applicant over a 5-year period.

Applicant: Jason Gulley, Tampa, FL; Permit No. PER0030530

The applicant requests a permit to photograph (video and still photography) West Indian manatee (Trichechus manatus) in Florida, for the purpose of commercial photography. This notification covers activities to be conducted by the applicant over a 5-year period.

Applicant: Mote Marine Laboratory & Aquarium, Sarasota, FL; Permit No. PER0027767

The applicant requests to amend a permit for scientific research on Florida manatees (Trichechus manatus latirostris) both in the wild or being held in captivity. This notification covers activities to be conducted by the applicant over a 5-year period.

B. Wild Bird Conservation Act

Applicant: Gerald Bobak, Ellijay, GA; Permit No. PER0051912

The applicant wishes to establish a cooperative breeding program for eclectus parrot (Eclectus roratus), importing into the United States 100 eclectus parrots from captive breeding facilities outside the United States. The applicant would be an active participant in this program. Once the program is established, additional applicants could apply to participate, which Laurella Desborough, of Claremore, Oklahoma, intends to do. If approved, the program will be overseen by the Organization of Professional Aviculturists, San Dimas, California.

IV. Next Steps

After the comment period closes, we will make decisions regarding permit issuance. If we issue permits to any of the applicants listed in this notice, we will publish a notice in the Federal Register. You may locate the notice announcing the permit issuance by searching https://www.regulations.gov for the permit number listed above in this document. For example, to find information about the potential issuance of Permit No. 12345A, you would go to https://www.regulations.gov and search for “12345A”.

V. Authority

We issue this notice under the authority of the Marine Mammal Protection Act of 1972, as amended (16 U.S.C. 1361 et seq.), and its implementing regulations and under the authority of the Wild Bird Conservation Act of 1992 (16 U.S.C. 4901-4916). This notice is provided pursuant to section 112(4) of the Wild Bird Conservation Act of 1992, 50 CFR 15.26(c).

Brenda Tapia,
Supervisory Program Analyst/Data Administrator, Branch of Permits, Division of Management Authority.

[FR Doc. 2022-24549 Filed 11-9-22; 8:45 am]

BILLING CODE 4333-15-P